ENVIRONMENTAL PROTECTION AGENCY

[FRL-9455-9]

Clean Air Act Operating Permit Program; Petition for Objection to State Operating Permit for Williams Four Corners, LLC, Sims Mesa CDP Compressor Station

AGENCY: Environmental Protection Agency (EPA).

ACTION: Notice of final action.

SUMMARY: This document announces that the EPA Administrator has responded to a citizen petition asking EPA to object to an operating permit (Permit Number P026R2) issued by the New Mexico Environment Department, Air Quality Bureau (NMED). Specifically, the Administrator has granted the April 14, 2010 petition, submitted by WildEarth Guardians and San Juan Citizens Alliance (Petitioners) to object to the March 19, 2010, operating permit issued to Williams Four Corners, LLC, for the Sims Mesa Central Delivery Point (CDP) compressor station in northwestern Rio Arriba County, New Mexico. Pursuant to sections 307(b) and 505(b)(2) of the Clean Air Act (CAA), a petition for judicial review of those parts of the Order that deny issues in the petition may be filed in the United States Court of Appeals for the appropriate circuit within 60 days from the date this notice appears in the Federal Register.

ADDRESSES: You may review copies of the final Order, the petition, and other supporting information at EPA Region 6, 1445 Ross Avenue, Dallas, Texas 75202-2733. EPA requests that if at all possible, you contact the individual listed in the FOR FURTHER INFORMATION CONTACT section to view copies of the final Order, petition, and other supporting information. You may view the hard copies Monday through Friday, from 9 a.m. to 3 p.m., excluding Federal holidays. If you wish to examine these documents, you should make an appointment at least 24 hours before the visiting day. Additionally, the final Order for the Williams Four Corners, LLC, Sims Mesa CDP Compressor Station is available electronically at: http://www.epa.gov/region07/air/title5/petitiondb/petitions/simsmesa_response2010.pdf

FOR FURTHER INFORMATION CONTACT: Jeffrey Robinson at (214) 665-7250, e-mail address: robinson.jeffrey@epa.gov or the above EPA, Region 6 address.

SUPPLEMENTARY INFORMATION: The CAA affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

EPA received a petition from the Petitioners dated April 14, 2010, requesting that EPA object to the issuance of the Title V operating permit to Williams Four Corners, LLC., for the operation of the Sims Mesa CDP Compressor Station in northwestern Rio Arriba County, New Mexico for the following reasons: (1) The Title V permit fails to ensure compliance with the Prevention of Significant Deterioration and Title V requirements; (2) the Title V permit fails to ensure prompt reporting of deviations; (3) the Title V permit fails to require sufficient periodic monitoring; and (4) Condition 6.1.1 of the Title V permit is contrary to applicable requirements.

On July 29, 2011, the Administrator issued an order granting the petition. The order explains the reasons behind EPA's conclusion to grant the petition.

Dated: August 16, 2011.
Al Armendariz,
Regional Administrator, Region 6.

[FR Doc. 2011-21627 Filed 8-23-11; 8:45 am]

BILLING CODE 6560-50-P